DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Actions

On November 8, 2018, OFAC determined that the property and interests in property subject to U.S. jurisdiction of the following persons are blocked under the relevant sanctions authorities listed below.

Individuals

1. BASOV, Aleksandr Vasilevich (a.k.a. BASOV, Alexander; a.k.a. BASOV, Oleksandr), Ukraine; DOB 16 Oct 1971; Gender Male (individual) [CAATSA—RUSSIA] (Linked To: MINISTRY OF STATE SECURITY).

Designated pursuant to section 11(a)(3) of Support for the Sovereignty, Integrity, Democracy, and Economic Stability of Ukraine Act, as amended by the section 228(a) of the Countering America's Adversaries Through Sanctions Act, Public Law 115-44, (SSIDES), 22 U.S.C. 8910(a)(3) for acting or purporting to act for or on behalf of, directly, or indirectly, the MINISTRY OF STATE SECURITY, a person whose property and interests in property are blocked pursuant to Section 11(a)(1) of SSIDES.

2. SUSHKO, Andriy Volodymyrovych (a.k.a. SUSHKO, Andrey; a.k.a. SUSHKO, Andrey Vladimirovich; a.k.a. SUSHKO, Andrii), Bldg. 78, Apt. 74, ulitsa Generala Petrova, city of Kerch, Crimea; DOB 23 Jan 1976; POB Village of Leninskoe, Leninskiy Region, Autonomous Region of Crimea; Gender Male (individual) [CAATSA—RUSSIA].

Designated pursuant to section 11(a)(1) of SSIDES, 22 U.S.C. 8910(a)(1), for being responsible for, complicit in, or responsible for ordering, controlling, or otherwise directing, the commission of serious human rights abuses in any territory forcibly occupied or otherwise controlled by the Government of the Russian Federation.

3. ZARITSKY, Vladimir Nikolaevich (a.k.a. ZARITSKY, Vladimir Nikolayevich), Russia; DOB 15 Jun 1948; POB Ostany Village, Korosten District, Zhitomir region, Ukraine; Gender Male (individual) [UKRAINE—E.O. 13685].

Designated pursuant to section 2(a)(i) of Executive Order 13685 of December 19, 2014, “Blocking Property of Certain Persons and Prohibiting Certain Transactions With Respect to the Crimea Region of Ukraine” (E.O. 13685) for operating in the Crimea region of Ukraine.

Entities

1. JOINT STOCK COMPANY SANATORIUM AY-PETRI (a.k.a. JOINT STOCK COMPANY AI-PETRI SANATORIUM; a.k.a. JSC SANATORIUM AY-PETRI), House 15, Alupkinskoye shosse, Urban Village Koreiz, City of Yalta, Crimea 298671, Ukraine; Tax ID No. 9103082749 (Russia); Registration Number 1169102093797 (Russia) [UKRAINE—E.O. 13685].

Designated pursuant to section 2(a)(i) of E.O. 13685 for operating in the Crimea region of Ukraine.

2. JOINT STOCK COMPANY SANATORIUM DYULBER (a.k.a. JOINT STOCK COMPANY DIULBER SANATORIUM; a.k.a. JSC SANATORIUM DYULBER), House 19, Alupkinskoye shosse, Koreiz, Yalta, Crimea 298671, Ukraine; Tax ID No. 9103084143 (Russia); Registration Number 1179102009525 (Russia) [UKRAINE—E.O. 13685].

Designated pursuant to section 2(a)(i) of E.O. 13685 for operating in the Crimea region of Ukraine.

3. JOINT STOCK COMPANY SANATORIUM MISKHOR (a.k.a. JSC SANATORIUM MISKHOR), House 9, Alupkinskoye shosse, Koreiz, Yalta, Crimea 298671, Ukraine; Tax ID No. 9103082756 (Russia); Registration Number 1169102093930 (Russia) [UKRAINE—E.O. 13685].

Designated pursuant to section 2(a)(i) of E.O. 13685 for operating in the Crimea region of Ukraine.

4. KRYMTETS, AO (a.k.a. AKTSIONERNOE OBSHCHESTVO KRYMTEPLOELEKTROTSENTRAL; a.k.a. AO, KRIMTETS; f.k.a. KRYMTEPLOELEKTROTSENTRAL, AO), 1, ul. Montazhnaya Pgt. Gresovski, Simferopol, Crimea 295493, Ukraine; website www.krimtec.com; Email Address e.hmelnitskiy@krimtec.com; Tax ID No. 9102070194 (Russia); Government Gazette Number 00828288 (Russia); Registration Number 1159102014169 (Russia) [UKRAINE—E.O. 13685].

Designated pursuant to section 2(a)(i) of E.O. 13685 for operating in the Crimea region of Ukraine.

5. LIMITED LIABILITY COMPANY GARANT-SV (a.k.a. GARANT-SV; a.k.a. GARANT-SV LIMITED LIABILITY COMPANY; a.k.a. GARANT-SV LLC; a.k.a. GARANT-SV, OOO; a.k.a. LLC GARANT-SV; a.k.a. OOO GARANT-SV), House 9, Generala Ostryakova Street, Opolznevoye Village, Yalta, Crimea 298685, Ukraine; 9, Generala Ostryakova St., Opolznevoye, Yalta, Crimea 298685, Ukraine; website http://mriyaresort.com; Tax ID No. 9103007830 (Russia); Registration Number 1149102066740 (Russia) [UKRAINE—E.O. 13685].

Designated pursuant to section 2(a)(i) of E.O. 13685 for operating in the Crimea region of Ukraine.

6. LIMITED LIABILITY COMPANY INFRASTRUCTURE PROJECTS MANAGEMENT COMPANY (a.k.a. MANAGEMENT COMPANY FOR INFRASTRUCTURE PROJECTS; a.k.a. UPRAVLYAYUSHCHAYA KOMPANIYA INFRASTRUKTURNYKH PROEKTOV; a.k.a. “LLC UKIP”; a.k.a. “UKIP”; a.k.a. “UKIP, OOO”), Sevastopolskaya Street, House 4½, Simferopol, Crimea 295024, Ukraine; Email Address fnatali@mail.ru; Tax ID No. 9102045582 (Russia); Government Gazette Number 00742767 (Russia); Registration Number 1149102091654 (Russia) [UKRAINE—E.O. 13685].

Designated pursuant to section 2(a)(i) of E.O. 13685 for operating in the Crimea region of Ukraine.

7. LIMITED LIABILITY COMPANY SOUTHERN PROJECT (a.k.a. LLC SOUTHERN PROJECT; a.k.a. OBSHCHESTVO S OGRANICHENNOI OTVETSTVENNOSTYU YUZHNY PROEKT; a.k.a. YUZHNY PROEKT, OOO), Room 15-H, Litera A, House 2, Rastrelli Place, City of St. Petersburg 191124, Russia; Tax ID No. 7842144503 (Russia); Registration Number 1177847378279 (Russia) [UKRAINE—E.O. 13661] [UKRAINE—E.O. 13685] (Linked To: BANK ROSSIYA; Linked To: KOVALCHUK, Yuri Valentinovich).

Designated pursuant to section 2(a)(i) of E.O. 13685 for operating in the Crimea region of Ukraine.

Designated pursuant to section 1(a)(ii)(C)(2) of Executive Order 13661 of March 16, 2014, “Blocking Property of Additional Persons Contributing to the Situation in Ukraine” (E.O. 13661) for being owned or controlled by BANK ROSSIYA, a person whose property and interests in property are blocked pursuant to E.O. 13661.

Designated pursuant to section 1(a)(ii)(C)(2) of E.O. 13661 for being owned or controlled by Yuri Valentinovich KOVALCHUK, a person whose property and interests in property are blocked pursuant to E.O. 13661.

8. MINISTRY OF STATE SECURITY (a.k.a. “MGB”), Luhansk People's Republic, Luhansk City, Ukraine [CAATSA—RUSSIA].

Designated pursuant to section 11(a)(1) of SSIDES, 22 U.S.C. 8910(a)(1), for being responsible for, complicit in, or responsible for ordering, controlling, or otherwise directing, the commission of serious human rights abuses in any territory forcibly occupied or otherwise controlled by the Government of the Russian Federation.

9. MRIYA RESORT & SPA (a.k.a. MRIYA RESORT; a.k.a. MRIYA RESORT AND SPA; a.k.a. MRIYA SANATORIUM COMPLEX; a.k.a. MRIYA SANATORIUM RESORT COMPLEX; a.k.a. SANATORIUM-RESORT COMPLEX MRIYA), 9, Generala Ostryakova Street, Opolznevoye Village, Yalta, Crimea 298685, Ukraine; website http://mriyaresort.com; Email Address info@mriyaresort.com [UKRAINE-E.O. 13685] (Linked To: LIMITED LIABILITY COMPANY GARANT-SV).

Designated pursuant to section 2(a)(i) of E.O. 13685 for operating in the Crimea region of Ukraine.

Designated pursuant to section 2(a)(iii) of E.O. 13685 for being owned or controlled by, directly or indirectly, LIMITED LIABILITY COMPANY GARANT-SV, a person whose property and interests in property are blocked pursuant to E.O. 13685.

Additionally, OFAC is updating the listing on the Specially Designated Nationals and Blocked Persons List of seven entities that are identified pursuant to Executive Order 13599. The entities' listings will be updated from:

1. HEKMAT IRANIAN BANK (a.k.a. BANK-E HEKMAT IRANIAN), Argentine Circle, beginning of Africa St., Corner of 37th St., (Dara Cul-de-sac), No.26, Tehran, Iran; Additional Sanctions Information—Subject to Secondary Sanctions [IRAN].

-to-

1. HEKMAT IRANIAN BANK (a.k.a. BANK-E HEKMAT IRANIAN), Argentine Circle, beginning of Africa St., Corner of 37th St., (Dara Cul-de-sac), No.26, Tehran, Iran [IRAN].

2. KHAVARMIANEH BANK (a.k.a. MIDDLE EAST BANK), No. 22, Second Floor Sabounchi St., Shahid Beheshti Ave., Tehran, Iran; SWIFT/BIC KHMIIRTH; Additional Sanctions Information—Subject to Secondary Sanctions; All offices worldwide [IRAN].

-to-

2. KHAVARMIANEH BANK (a.k.a. MIDDLE EAST BANK), No. 22, Second Floor Sabounchi St., Shahid Beheshti Ave., Tehran, Iran; SWIFT/BIC KHMIIRTH; All offices worldwide [IRAN].

3. KISH INTERNATIONAL BANK (a.k.a. KISH INTERNATIONAL BANK OFFSHORE COMPANY PJS), NBO-9, Andisheh Blvd., Sanayi Street, Kish Island, Iran; Additional Sanctions Information—Subject to Secondary Sanctions; All offices worldwide [IRAN].

-to-

3. KISH INTERNATIONAL BANK (a.k.a. KISH INTERNATIONAL BANK OFFSHORE COMPANY PJS), NBO-9, Andisheh Blvd., Sanayi Street, Kish Island, Iran; All offices worldwide [IRAN].

4. MEHR IRAN CREDIT UNION BANK (a.k.a. BANK-E GHARZOLHASANEH MEHR IRAN; a.k.a. GHARZOLHASANEH MEHR IRAN BANK), Taleghani St., No.204, Before the intersection of Mofateh, across from the former U.S. embassy, Tehran, Iran; Additional Sanctions Information—Subject to Secondary Sanctions [IRAN].

-to-

4. MEHR IRAN CREDIT UNION BANK (a.k.a. BANK-E GHARZOLHASANEH MEHR IRAN; a.k.a. GHARZOLHASANEH MEHR IRAN BANK), Taleghani St., No.204, Before the intersection of Mofateh, across from the former U.S. embassy, Tehran, Iran [IRAN].

5. CREDIT INSTITUTION FOR DEVELOPMENT, 53 Saanee, Jahan-e Koodak, Crossroads Africa St., Tehran, Iran; Additional Sanctions Information—Subject to Secondary Sanctions [IRAN].

-to-

5. CREDIT INSTITUTION FOR DEVELOPMENT, 53 Saanee, Jahan-e Koodak, Crossroads Africa St., Tehran, Iran [IRAN].

6. NATIONAL IRANIAN TANKER COMPANY (a.k.a. NITC), NITC Building, 67-88, Shahid Atefi Street, Africa Avenue, Tehran, Iran; website www.nitc.co.ir; Email Address info@nitc.co.ir; alt. Email Address administrator@nitc.co.ir; Additional Sanctions Information—Subject to Secondary Sanctions; Telephone (98)(21)(66153220); Telephone (98)(21)(23803202); Telephone (98)(21)(23803303); Telephone (98)(21)(66153224); Telephone (98)(21)(23802230); Telephone (98)(9121115315); Telephone (98)(9128091642); Telephone (98)(9127389031); Fax (98)(21)(22224537); Fax (98)(21)(23803318); Fax (98)(21)(22013392); Fax (98)(21)(22058763) [IRAN] [IFCA].

-to-

6. NATIONAL IRANIAN TANKER COMPANY (a.k.a. NITC), NITC Building, 67-88, Shahid Atefi Street, Africa Avenue, Tehran, Iran; website www.nitc.co.ir; Email Address info@nitc.co.ir; alt. Email Address administrator@nitc.co.ir; IFCA Determination—Involved in the Shipping Sector ; Additional Sanctions Information—Subject to Secondary Sanctions; Telephone (98)(21)(66153220); Telephone (98)(21)(23803202); Telephone (98)(21)(23803303); Telephone (98)(21)(66153224); Telephone (98)(21)(23802230); Telephone (98)(9121115315); Telephone (98)(9128091642); Telephone (98)(9127389031); Fax (98)(21)(22224537); Fax (98)(21)(23803318); Fax (98)(21)(22013392); Fax (98)(21)(22058763) [IRAN] [IFCA].

7. NATIONAL IRANIAN OIL COMPANY (a.k.a. NIOC), Hafez Crossing, Taleghani Avenue, P.O. Box 1863 and 2501, Tehran, Iran; National Iranian Oil Company Building, Taleghani Avenue, Hafez Street, Tehran, Iran; website www.nioc.ir; Additional Sanctions Information—Subject to Secondary Sanctions; all offices worldwide [IRAN] [IFCA].

-to-

7. NATIONAL IRANIAN OIL COMPANY (a.k.a. NIOC), Hafez Crossing, Taleghani Avenue, P.O. Box 1863 and 2501, Tehran, Iran; National Iranian Oil Company Building, Taleghani Avenue, Hafez Street, Tehran, Iran; website www.nioc.ir; IFCA Determination—Involved in Energy Sector; Additional Sanctions Information—Subject to Secondary Sanctions; all offices worldwide [IRAN] [IFCA].

Dated: November 8, 2018.
Andrea M. Gacki,
Director, Office of Foreign Assets Control.

[FR Doc. 2018-24889 Filed 11-14-18; 8:45 am]

BILLING CODE 4810-AL-P